ENVIRONMENTAL PROTECTION AGENCY

[EPA-HQ-OPP-2019-0091; FRL-9998-99]

Product Cancellation Order for Certain Pesticide Registrations; Correction

AGENCY: Environmental Protection Agency (EPA).

ACTION: Notice.

SUMMARY: EPA issued a cancellation order in the Federal Register of August 14, 2019, concerning the cancellations voluntarily requested by the registrants and accepted by the Agency. This notice is being issued to correct the cancellation order in Table 1, of Unit II., to remove three entries that the registrant inadvertently requested be cancelled.

DATES: The Federal Register of August 14, 2019, announced the order to voluntarily cancel three registrations in Table 1, of Unit II., that the registrant inadvertently requested.

FOR FURTHER INFORMATION CONTACT: Christopher Green, Information Technology and Resources Management Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2019-0091, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What does this correction do?

EPA is correcting the cancellation order issued in the Federal Register of August 14, 2019 (84 FR 40405; FRL-9996-70), by removing three entries in Table 1, of Unit II., because the registrant of those registrations inadvertently requested the voluntary cancellations. As such, this correction removes registration numbers 1043-87, 1043-91 and 1043-92 from the cancellation order.

On page 40405, in Table 1, of Unit II., please remove the entries for registration numbers 1043-87, 1043-91 and 1043-92.

Authority: 7 U.S.C. 136 et seq.

Dated: August 26, 2019.
Hamaad A. Syed,
Acting Director, Information Technology and Resource Management Division, Office of Pesticide Programs.

[FR Doc. 2019-19031 Filed 9-3-19; 8:45 am]

BILLING CODE 6560-50-P